DEPARTMENT OF HEALTH AND HUMAN SERVICES

National Committee on Vital and Health Statistics: Meetings

Pursuant to the Federal Advisory Committee Act, the Department of Health and Human Services announces the following advisory committee meeting.

Name: National Committee on Vital and Health Statistics (NCVHS), Joint meeting of the Subcommittee on Standards and Security and the Working Group on Computer-based Patient Records.

Times and Dates: 9 a.m.-5 p.m., March 30, 2000; 9 a.m.-5 p.m., March 31, 2000

Place: Conference Room 703A, Hubert H. Humphrey Building, 200 Independence Ave. S.W., Washington, D.C. 20201.

Status: Open.

Purpose: Under the Administrative Simplification provisions of P.L. 104-191, the Health Insurance Portability and Accountability Act of 1996 (HIPAA), the National Committee on Vital and Health Statistics (NCVHS) is required to study the issues related to the adoption of uniform data standards for patient medical record information and the electronic interchange of such information, and report to the Secretary of Health and Human Services not later then August 2000 on recommendations and legislative proposals for such standards and electronic interchange. The NCVHS is the Department's federal advisory committee on health data, privacy and health information policy.

At this joint meeting, the Subcommittee and Working Group will review, discuss and revise the draft report to the Secretary under development relating to standards for patient medical record information and its electronic transmission, based on the comments from the full committee. The tentative agenda for the meeting will be posted on the NCVHS website: http://ncvhs.hhs.gov, when available.

Contact Person for More Information: Substantive program information about the meeting may be obtained for Michael Fitzmaurice (AHCPR, 301 594-3938) or Bob Mayes (HCFA, 410 786-6872), lead staff for the Computer-based Patient Record Working Group. Information about the NCVHS is available on the NCVHS home page of the HHS website, or from Marjorie S. Greenberg, Executive Secretary, NCVHS, NCHS, CDC, Room 1100, Presidential Building, 6525 Belcrest Road, Hyattsville, Maryland 20782, telephone (301) 458-4245.

Dated: March, 3, 2000.
James Scanlon,
Director, Division of Data Policy, Office of Program Systems, Office of the Assistant Secretary for Planning and Evaluation, and HHS Executive Staff Director NCVHS.

[FR Doc. 00-5841 Filed 3-9-00; 8:45 am]

BILLING CODE 4151-05-M